DEPARTMENT OF JUSTICE

Notice of Proposed Settlement Agreement Under the Comprehensive Environmental Response, Compensation, and Liability Act

On September 30, 2015, a fully-executed proposed Settlement Agreement was received by the Department of Justice, among the United States on behalf of the U.S. Department of the Interior, U.S. Fish and Wildlife Service (“FWS”), the State of Ohio, on behalf of the Ohio Environmental Protection Agency (“OEPA”), and the State of Ohio, on behalf of the Ohio Department of Transportation (“ODOT”).

The Settlement Agreement resolves certain claims by the FWS and OEPA for natural resource damages with respect to a portion of the Ottawa River, primarily located in Lucas County, Ohio, against ODOT. The Settlement Agreement requires ODOT to pay $221,865 to the Department of the Interior's Natural Resource Damage Assessment and Restoration Fund to be used by the FWS and OEPA, the natural resource trustees (“Trustees”) for this matter, for the joint benefit and use of the Trustees to pay for Trustee-sponsored natural resource restoration efforts.

The publication of this notice opens a period for public comment on the proposed Settlement Agreement. Comments should be addressed to the Assistant Attorney General, Environment and Natural Resources Division, and should refer to United States' Settlement Agreement with State of Ohio Department of Transportation, D.J. Ref. No. 90-11-3-09090/3. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Settlement Agreement may be examined and downloaded at this Justice Department Web site: http://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $4.50 (25 cents per page reproduction cost) payable to the United States Treasury.

Randall M. Stone,
Acting Assistant Section Chief, Environmental Enforcement Section, Environment and Natural Resources Division.

[FR Doc. 2015-25992 Filed 10-13-15; 8:45 am]

BILLING CODE 4410-15-P